DEPARTMENT OF THE INTERIOR

National Park Service

[NPS-WASO-NRNHL-0811-8331; 2280-665]

National Register of Historic Places; Notification of Pending Nominations and Related Actions

Nominations for the following properties being considered for listing or related actions in the National Register were received by the National Park Service before August 27, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St., NW., 8th floor, Washington, DC 20005; or by fax, 202-371-6447. Written or faxed comments should be submitted by October 6, 2011. Before including your address, phone number, e-mail address, or other personal identifying information in your comment, you should be aware that your entire comment—including your personal identifying information—may be made publicly available at any time. While you can ask us in your comment to withhold your personal identifying information from public review, we cannot guarantee that we will be able to do so.

James Gabbert,
Acting Chief, National Register of Historic Places/National Historic Landmarks Program.

DISTRICT OF COLUMBIA

District of Columbia

Congressional Club, 2001 New Hampshire Ave., NW., Washington, 11000717

FLORIDA

Polk County

Mann Manor, 325 W. Main St., Bartow, 11000718

IOWA

Black Hawk County

Grace Methodist Episcopal Church, 633 Walnut St., Waterloo, 11000719

Fremont County

Tabor Congregational Church, 403 Elm St., Tabor, 11000720

Lucas County

Crozier, J.T. and Mollie, House, (Architectural Career of William L. Perkins in Iowa: 1917-1957 MPS), 627 Ilion Ave., Chariton, 11000721

Scott County

School Number 6, 1420 W. 16th St., Davenport, 11000722

Wapello County

Historic Railroad District, (Post-World War II Development in Ottumwa, IA 1944-1959 MPS), Main St. to BNSFRR tracks between Washington & Marion., Ottumwa, 11000723

KANSAS

Butler County

Beaumont St. Louis and San Francisco Railroad Retention Pond, SE. 116th St. & SE Beaumont Rd., Beaumont, 11000724

Leavenworth County

Lamborn, Horace and Rosemond, Farmstead, (Agriculture-Related Resources of Kansas), 25761 151st. St., Leavenworth, 11000725

North Broadway School, (Public Schools of Kansas MPS), 801 N. Broadway St., Leavenworth, 11000726

Marion County

1927 Hillsboro Water Tower, Lots 10 & 11, Blk. 2, Hill's 2nd Addition., Hillsboro, 11000727

Pottawatomie County

Heptig, Joseph, Barn, (Agriculture-Related Resources of Kansas), 12115 Antons Rd., Flush, 11000728

Shawnee County

Crosby, William T. and Delora, House, 1109 SW. Topeka Blvd., Topeka, 11000729

NEW HAMPSHIRE

Coos County

Indian Stream Schoolhouse, Tabor Rd., Pittsburg, 11000730

SOUTH CAROLINA

Greenwood County

Southern Railway Depot, 99 SC 34, Ninety Six, 11000731

Newberry County

Bedenbaugh, Jacob, House, 1185 SC 773, Prosperity, 11000732

WEST VIRGINIA

Tucker County

Davis Coal and Coke Company Administrative Building, 570 Douglas Rd., Thomas, 11000733

Request for REMOVAL has been made for the following resource:

ALABAMA

Montgomery County

North Lawrence—Monroe Street Historic District, 132-148, 216, 220 Monroe St. and 14, 22, 28-40, 56 N. Lawrence St., Montgomery, 84000712

[FR Doc. 2011-24160 Filed 9-20-11; 8:45 am]

BILLING CODE 4312-51-P